DEPARTMENT OF JUSTICE

[OMB Number 1121-NEW]

Agency Information Collection Activities; Proposed Collection Comments Requested; New Collection: National Pretrial Reporting Program (NPRP)

AGENCY: Bureau of Justice Statistics, Department of Justice.

ACTION: 30-Day notice.

SUMMARY: The Department of Justice (DOJ), Office of Justice Programs, Bureau of Justice Statistics (BJS), will be submitting the following information collection request to the Office of Management and Budget (OMB) for review and approval in accordance with the Paperwork Reduction Act of 1995. The proposed information collection was previously published in the Federal Register Volume 87, Number 31, page 8607, on Tuesday, February 15, 2022, allowing a 60-day comment period. Following publication of the 60-day notice, BJS received three comments. The first comment recommended use of a specific technology as a means to ease the burden on data providers. The second comment recommended the inclusion of people charged with misdemeanors. BJS did not make these changes; BJS has technology suitable to this data collection and misdemeanors would expand the scope of this data collection beyond what BJS feels can be achieved in this iteration. The third comment suggested a focus on electronic monitoring as a condition of release, which BJS feels the current data collection adequately addresses.

DATES: Comments are encouraged and will be accepted for 30 days until June 27, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: The National Pretrial Reporting Program (NPRP).

(3) The agency form number, if any, and the applicable component of the Department sponsoring the collection: The Data Extraction Guide is NPRP-1. The applicable component within the Department of Justice is the Bureau of Justice Statistics, in the Office of Justice Programs.

(4) Affected public who will be asked or required to respond, as well as a brief abstract: Respondents will be local general jurisdiction courts, jails and pretrial services agencies or their information technology (IT) staff. Among other responsibilities, the Bureau of Justice Statistics is charged with collecting data regarding the prosecution of crimes by state and federal offices. The NPRP will focus on the pretrial phase of felony case processing in large counties. This effort will collect information from jails, pretrial services agencies and general jurisdiction courts by requesting data extracts associated with felony filings from case management systems. A total of 125 of the largest 200 counties in the U.S. will be sampled with the top 75 counties sampled with certainty.

BJS will request complete case-level records from the 125 sampled counties and connect data files within jurisdictions through defendant identifiers. The files will then be linked to defendant criminal histories for a comprehensive data file on pretrial release and detention. BJS is requesting that the extracts include all felony cases filed in 2019. BJS is also requesting that the extracts include arrest charges, defendant demographics, pretrial release decisions, pretrial misconduct, case disposition and sentencing. Local jails, pretrial services agencies and courts can provide the data extracts in any format.

(5) An estimate of the total number of respondents and the amount of time estimated for an average respondent to respond: BJS will send a data extraction guide to a total of 375 agencies within 125 jurisdictions (one court, one jail, and one pretrial service agency for each county). The expected burden placed on each agency is about 16 hours per agency for data extraction and 10 hours to explain any data inconsistencies or to answer questions of the data collection team.

(6) An estimate of the total public burden (in hours) associated with the collection: The total respondent burden is approximately 9,750 burden hours for the 375 agencies.

If additional information is required contact: Melody Braswell, Department Clearance Officer, United States Department of Justice, Justice Management Division, Policy and Planning Staff, Two Constitution Square, 145 N Street NE, 3E.405A, Washington, DC 20530.

Dated: April 21, 2022.
Melody Braswell,
Department Clearance Officer for PRA, U.S. Department of Justice.

[FR Doc. 2022-08860 Filed 4-25-22; 8:45 am]

BILLING CODE 4410-18-P